DEPARTMENT OF ENERGY

Energy Employees Occupational Illness Compensation Program Act of 2000; Revision to the List of Covered Facilities

AGENCY: Department of Energy.

ACTION: Notice of revision of listing of covered facilities.

SUMMARY: The Department of Energy (“Department” or “DOE”) periodically publishes or revises a list of facilities covered under the Energy Employees Occupational Illness Compensation Program Act of 2000, as amended (“EEOICPA” or “Act”). This notice amends the previous lists that DOE published by removing the designation of the Mathieson Chemical Company facility in Pasadena, Texas, as an atomic weapons employer (AWE) facility. Previous lists or revisions were published by DOE on June 30, 2010, as amended by August 3, 2010, April 9, 2009, June 28, 2007, November 30, 2005, August 23, 2004, July 21, 2003,

December 27, 2002, June 11, 2001, and January 17, 2001.

FOR FURTHER INFORMATION CONTACT: Patricia R. Worthington, Ph.D., Director, Office of Health and Safety (HS-10), (301) 903-5926.

ADDRESSES: The Department welcomes comments on this notice. Comments should be addressed to: Patricia R. Worthington, Ph.D., Director, Office of Health and Safety (HS-10), U.S. Department of Energy, 1000 Independence Avenue, SW., Washington, DC 20585.

SUPPLEMENTARY INFORMATION:

Purpose

EEOICPA establishes a program to provide compensation to certain employees who develop illnesses as a result of their employment with AWEs, DOE and its predecessor Agencies, certain of its contractors and subcontractors, and listed beryllium vendors. Section 3621(4) of the Act (codified at 42 U.S.C. 7384l(4)) defines an AWE as “an entity, other than the United States, that—(A) Processed or produced, for use by the United States, material that emitted radiation and was used in the production of an atomic weapon, excluding uranium mining and milling; and (B) is designated by the Secretary of Energy as an [AWE] for purposes of the compensation program.” Section 3621(5) defines an AWE facility as “a facility, owned by an [AWE], that is or was used to process or produce, for use by the United States, material that emitted radiation and was used in the production of an atomic weapon, excluding uranium mining or milling.”

It has recently come to the attention of the Department that the Mathieson Chemical Company (also known as Pasadena Chemical Corporation, Olin Mathieson Chemical Company, and Mobil Mining and Minerals Company) facility in Pasadena, Texas, should not have been designated as an AWE facility because no material that emitted radiation, which was processed or produced by the Mathieson Chemical Company, was used in the production on an atomic weapon.

This notice formally makes the change to the listing of covered facilities by removing the Mathieson Chemical Company facility in Pasadena, Texas, as an AWE facility under EEOICPA.

Issued in Washington, DC on May 17, 2011.
Glenn S. Podonsky,
Chief Health, Safety and Security Officer, Office of Health, Safety and Security.

[FR Doc. 2011-13055 Filed 5-25-11; 8:45 am]

BILLING CODE 6450-01-P